ENVIRONMENTAL PROTECTION AGENCY

40 CFR Part 52

[EPA-R09-OAR-2024-0315; FRL-12098-01-R9]

Air Plan Approval; California; Feather River Air Quality Management District

AGENCY: Environmental Protection Agency (EPA).

ACTION: Proposed rule.

SUMMARY: The Environmental Protection Agency (EPA) is proposing to approve a revision to the Feather River Air Quality Management District (FRAQMD or “District”) portion of the California State Implementation Plan (SIP). This revision concerns recodification of certain rules to replace historical Sutter County Air Pollution Control District and Yuba County Air Pollution Control District rules with the corresponding FRAQMD rules. These rules regulate pollutants under the Clean Air Act (CAA or “Act”). We are taking comments on this proposal and plan to follow with a final action.

DATES: Comments must be received on or before October 7, 2024.

ADDRESSES: Submit your comments, identified by Docket ID No. EPA-R09-OAR-2024-0315 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Kira Wiesinger, EPA Region IX, 75 Hawthorne St., San Francisco, CA 94105; phone: (415) 972-3827; email: wiesinger.kira@epa.gov.

SUPPLEMENTARY INFORMATION: Throughout this document, “we,” “us” and “our” refer to the EPA.

Table of Contents

I. The State's Submittal

A. What is the purpose of the submitted SIP revision?

B. What rules did the State submit?

C. Are there other versions of these rules?

II. The EPA's Evaluation and Action

A. Scope of the EPA's Review

B. Proposed Action and Public Comment

III. Incorporation by Reference

IV. Statutory and Executive Order Reviews

I. The State's Submittal

A. What is the purpose of the submitted SIP revision?

Under the CAA, the EPA has established National Ambient Air Quality Standards (NAAQS) for certain pervasive air pollutants, including, among others, ozone and particulate matter. Under CAA section 110(a), states are required to adopt and submit SIPs to implement, maintain and enforce the NAAQS. Under CAA section 107(d), the EPA has designated all areas of the country as attainment, nonattainment, or unclassifiable for the NAAQS. Areas designated as nonattainment must adopt and submit SIP revisions that, among other things, provide for attainment of the NAAQS by the applicable attainment date.

In 1972, when the original California SIP was submitted and approved by the EPA, the Sutter County Air Pollution Control District (SCAPCD) managed air quality programs in Sutter County, while the Yuba County Air Pollution Control District (YCAPCD) managed air quality programs in Yuba County. On various dates, the EPA approved rules and revisions submitted by these two districts for inclusion in the California SIP.

In 1991, the SCAPCD merged with the YCAPCD to form the FRAQMD. The FRAQMD is a bi-county agency that administers air quality management programs for Sutter and Yuba counties. The newly formed FRAQMD adopted many rules and regulations for the District that were identical to the previously existing SCAPCD and YCAPCD rules and regulations, but many of those FRAQMD rules were not submitted for inclusion in the California SIP. The FRAQMD portion of the California SIP currently includes rules adopted by the predecessor agencies, the SCAPCD and the YCAPCD, to the extent that such rules have not been superseded or removed through EPA approval of rules or rescissions adopted by the FRAQMD. Thus, the SCAPCD and the YCAPCD no longer exist, but several of their rules remain in the California SIP while the corresponding locally-adopted FRAQMD rules are not included in the SIP. On May 11, 2023, the FRAQMD submitted a request through the California Air Resources Board (CARB) to replace specific SCAPCD and YCAPCD rules with applicable FRAQMD rules. Approval of the request would revise the California SIP to include the FRAQMD rules and remove the historical SCAPCD and YCAPCD rules that are no longer needed in the SIP. The approval of this request would be considered administrative in nature and treated as a recodification of existing SIP rules to align the SIP version of the rules with those that are currently in effect in the FRAQMD.

B. What rules did the State submit?

The following rules were locally adopted by the FRAQMD on August 12, 1991,¹ and submitted by CARB on May 11, 2023, for inclusion in the California SIP:

¹ The FRAQMD rules were initially scheduled for adoption at a June 1991 Board Meeting, but the adoption was postponed to August 1991. The FRAQMD ultimately adopted the rules in this section on August 12, 1991, but “6/91” remained as the adoption date printed on the rules. Additionally, a typographic error in Rule 3.3 was corrected and adopted by the FRAQMD on October 3, 2022, without changing the official adoption date of the rule.

Rule 3.0, Visible Emissions

Rule 3.1, Exceptions to Rule 3.0 (excluding paragraph D)

Rule 3.2, Particulate Matter Concentration

Rule 3.3, Dust and Fumes

Rule 3.4, Separation of Emissions

Rule 3.5, Combination of Emissions

Rule 3.6, Abrasive Blasting

Rule 3.7, Reduction of Animal Matter

Rule 3.10, Sulfur Oxides

Rule 3.13, Circumvention

Rule 9.6, Equipment Breakdown

The following SCAPCD rules were originally adopted on December 16, 1980, and approved into the California SIP on April 12, 1982 (47 FR 15585). Since the SCAPCD no longer exists and there is a locally-adopted FRAQMD rule corresponding to each of these SCAPCD rules, the FRAQMD requested to remove these rules from the California SIP and replace them with the submitted FRAQMD rules listed above. That request was submitted by CARB on May 11, 2023.²

² In its May 11, 2023 submittal, the FRAQMD also requested to rescind SCAPCD Rule 9.5, “Air Pollution Equipment—Scheduled Maintenance,” and YCAPCD Rule 9.5, “Air Pollution Equipment—Scheduled Maintenance,” without replacement. The request for rescission of those two rules is not being acted on in this action.

Rule 3.0, Visible Emissions

Rule 3.1, Exceptions to Rule 3.0

Rule 3.2, Particulate Matter Concentration

Rule 3.3, Dust and Fumes

Rule 3.4, Separation of Emissions

Rule 3.5, Combination of Emissions

Rule 3.6, Sand Blasting

Rule 3.7, Reduction of Animal Matter

Rule 3.10, Sulfur Oxides

Rule 3.13, Circumvention

Rule 9.6, Equipment Breakdown

The following YCAPCD rules were originally adopted on July 24, 1980, and approved into the California SIP on April 12, 1982 (47 FR 15585). Since the YCAPCD no longer exists and there is a locally-adopted FRAQMD rule corresponding to each of these YCAPCD rules, the FRAQMD requested to remove these rules from the California SIP and replace them with the submitted FRAQMD rules listed above. That request was submitted by CARB on May 11, 2023.²

Rule 3.0, Visible Emissions

Rule 3.1, Exceptions to Rule 3.0

Rule 3.2, Particulate Matter Concentration

Rule 3.3, Dust and Fumes

Rule 3.4, Separation of Emissions

Rule 3.5, Combination of Emissions

Rule 3.6, Sand Blasting

Rule 3.7, Reduction of Animal Matter

Rule 3.10, Sulfur Oxides

Rule 3.13, Circumvention

Rule 9.6, Equipment Breakdown

On November 11, 2023, the submittal for the FRAQMD's request was deemed by operation of law to meet the completeness criteria in 40 CFR part 51, appendix V, which must be met before formal EPA review.

C. Are there other versions of these rules?

The EPA previously approved the SCAPCD and YCAPCD rules listed in section B and those rules are considered as applicable in the FRAQMD portion of the California SIP. If the EPA finalizes this action as proposed, then the corresponding FRAQMD rules listed in section B will supersede the SCAPCD and YCAPCD rules listed above.

II. The EPA's Evaluation and Action

A. Scope of the EPA's Review

The purpose of the submission of the FRAQMD rules is to align the versions of the rules that are part of the SIP with the versions found in the current District rulebook. The EPA is reviewing the rules specified herein as recodifications of existing rules and is not reviewing the substance of the rules at this time.³ The EPA approved these rules from the predecessor agencies, the SCAPCD and the YCAPCD, into the SIP via prior rulemakings. The EPA is subsequently proposing to approve the FRAQMD versions of rules to replace identical rules that were previously approved by the EPA. The EPA's proposed approval of the FRAQMD rules does not imply any position with respect to the approvability of the substance of the rules. To the extent the EPA has issued any SIP calls to the State with respect to the adequacy of any of the rules subject to this recodification, the EPA will continue to require the State to correct any such rule deficiencies despite the EPA's proposed approval of this recodification.

³ Memorandum dated February 12, 1990, from Johnnie L. Pearson, Chief, Regional Activities Section, EPA Office of Air Quality Planning and Standards to Chief, Air Branch, Regions I-X, Subject: “Review of State Regulation Recodifications.”

B. Proposed Action and Public Comment

As authorized in section 110(k)(3) of the Act, the EPA proposes to approve the submitted FRAQMD rules because they represent recodifications of existing SIP rules. If approved, these rules would supersede the SCAPCD and YCAPCD rules of the same corresponding number. The EPA is therefore also proposing to approve the rescissions of the corresponding SCAPCD and YCAPCD rules because they mirror recodified rules proposed for approval. We will accept comments from the public on this proposal until October 7, 2024. If the EPA takes final action to approve the submitted rules, the final action would incorporate these rules into the federally enforceable SIP and would remove the preceding SCAPCD and YCAPCD rules that are to be rescinded or superseded in the California SIP as requested.

III. Incorporation by Reference

In this rule, the EPA is proposing to include in a final EPA rule regulatory text that includes incorporation by reference. In accordance with requirements of 1 CFR 51.5, the EPA is proposing to incorporate by reference FRAQMD Rule 3.0, “Visible Emissions”; FRAQMD Rule 3.1, “Exceptions to Rule 3.0” (excluding paragraph D); FRAQMD Rule 3.2, “Particulate Matter Concentration”; FRAQMD Rule 3.3, “Dust and Fumes”; FRAQMD Rule 3.4, “Separation of Emissions”; FRAQMD Rule 3.5, “Combination of Emissions”; FRAQMD Rule 3.6, “Abrasive Blasting”; FRAQMD Rule 3.7, “Reduction of Animal Matter”; FRAQMD Rule 3.10,” Sulfur Oxides”; FRAQMD Rule 3.13, “Circumvention”; and FRAQMD Rule 9.6, “Equipment Breakdown,” all adopted on August 12, 1991, which regulate emissions of air pollutants. The EPA has made, and will continue to make, these materials available through https://www.regulations.gov and at the EPA Region IX Office (please contact the person identified in the FOR FURTHER INFORMATION CONTACT section of this preamble for more information).

IV. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this proposed action merely proposes to approve state law as meeting Federal requirements and does not impose additional requirements beyond those imposed by state law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it proposes to approve a state program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian tribe has demonstrated that a tribe has jurisdiction. In those areas of Indian country, the proposed rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on communities with environmental justice (EJ) concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The State did not evaluate EJ considerations as part of its SIP submittal; the CAA and applicable implementing regulations neither prohibit nor require such an evaluation. The EPA did not perform an EJ analysis and did not consider EJ in this action. Consideration of EJ is not required as part of this action, and there is no information in the record inconsistent with the stated goal of E.O. 12898 of achieving EJ for communities with EJ concerns.

List of Subjects in 40 CFR Part 52

Environmental protection, Air pollution control, Incorporation by reference, Intergovernmental relations, Nitrogen oxides, Ozone, Reporting and recordkeeping requirements, Volatile organic compounds.

Dated: August 28, 2024.
Martha Guzman Aceves,
Regional Administrator, Region IX.

[FR Doc. 2024-19848 Filed 9-4-24; 8:45 am]

BILLING CODE 6560-50-P